DEPARTMENT OF THE INTERIOR

Bureau of Land Management

[AZ-P040-2017-1711-PH-1000-241A 17X.LLAZP04000.L1711.PH0000]

Notice of Availability of the Proposed Resource Management Plan Amendment/Final Environmental Impact Statement for Recreational Target Shooting in the Sonoran Desert National Monument, AZ

AGENCY: Bureau of Land Management, Interior.

ACTION: Notice of availability.

SUMMARY: In accordance with the National Environmental Policy Act of 1969, as amended, and the Federal Land Policy and Management Act of 1976, as amended, the Bureau of Land Management (BLM) has prepared a proposed Resource Management Plan (RMP) Amendment and Final Environmental Impact Statement (EIS) for Recreational Target Shooting in the Sonoran Desert National Monument (SDNM) and by this Notice is announcing its availability.

DATES: BLM planning regulations state that any person who meets the conditions as described in the regulations may protest the BLM's proposed RMP Amendment/Final EIS. A person who meets the conditions and files a protest must file the protest within 30 days of the date that the Environmental Protection Agency publishes its Notice of Availability (NOA) in the Federal Register.

ADDRESSES: Copies of the Proposed RMP Amendment/Final EIS for Recreational Target Shooting in the SDNM have been sent to affected Federal, State, and local government agencies and to other stakeholders. Copies of the Proposed RMP Amendment/Final EIS are available for public inspection at the Lower Sonoran Field Office, 21605 North 7th Avenue, Phoenix, AZ 85027. Interested persons may also review the proposed RMP Amendment/Final EIS on the Internet at http://1.usa.gov/1ZPyFSA.

All protests must be in writing and mailed to one of the following addresses:

Regular Mail: BLM Director (210), Attention: Protest Coordinator, WO-210, P.O. Box 71383, Washington, DC 20024-1383.

Overnight Delivery: BLM Director (210), Attention: Protest Coordinator, WO-210, 20 M Street SE., Room 2134LM, Washington, DC 20003.

FOR FURTHER INFORMATION CONTACT: Wayne Monger, Monument Manager, telephone: 623-580-5683; address: Lower Sonoran Field Office, 21605 North 7th Avenue, Phoenix, Arizona 85027; email: blm_az_sdnmtargetshooting@blm.gov. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: The planning area covers nearly 496,400 surface acres of south-central Arizona and lies within Maricopa and Pinal Counties. Population centers adjacent to the planning area include metropolitan Phoenix, and the communities of Ajo, Goodyear, Buckeye, Gila Bend, Mobile, and Maricopa. The planning area encompasses Federal- and State-administered lands as well as private lands. The BLM manages 486,400 surface acres of public lands in the planning area, as well as 461,000 acres of (sub-surface) mineral estate. The State of Arizona manages 3,900 surface acres in the planning area, with the remaining 6,100 surface acres being privately owned land.

The BLM has prepared the Proposed RMP Amendment/Final EIS to address management of recreational target shooting in the SDNM and to address rulings by the U.S. District Court—District of Arizona. The Proposed RMP Amendment/Final EIS was required to analyze recreational target shooting in the SDNM due to a ruling by the U.S. District Court—District of Arizona that vacated portions of the 2012 Record of Decision, approved RMP, and Final EIS related to recreational target shooting throughout the SDNM, and remanded the decision to the BLM for reconsideration. The Court ordered the BLM to issue the decision for this amendment by September 30, 2017. The formal public scoping process for the RMP Amendment began on January 21, 2016, with the publication of a Notice of Intent in the Federal Register (81 FR 3463), and ended on March 21, 2016. The BLM held three public scoping meetings in February 2016. The BLM used public scoping comments to help identify planning issues that directed the formulation of alternatives and framed the scope of analysis in the Draft RMP Amendment/Draft EIS. The formal 90-day public comment period for the Draft RMP Amendment/Draft EIS began on December 16, 2016, with the publication of a NOA by the Environmental Protection Agency in the Federal Register (81 FR 91169), and ended on March 15, 2017. The BLM also published a NOA in the Federal Register (81 FR 90865) for the Draft RMP Amendment/Draft EIS. To allow the public an opportunity to review the Draft EIS, the BLM conducted five public meetings in January and February of 2017 at the following locations: BLM National Training Center, Phoenix; Arizona Game and Fish Department, Phoenix, Casa Grande, and Maricopa City; and Burton Barr Library, Phoenix. During the comment period, the BLM received 437 unique submittals containing 121 substantive comments from Federal, State, and local agencies; public and private organizations; and individuals. Following the public comment period on the Draft RMP Amendment/Draft EIS, comments were used to inform the proposed RMP Amendment and Final EIS. Public comments resulted in the addition of clarifying text, but did not significantly change proposed land use plan amendment decisions. The BLM responded to substantive comments and made appropriate revisions to the document, or explained why a comment did not warrant a change.

The Proposed RMP Amendment/Final EIS evaluates five alternatives in detail, including the No Action Alternative (Alternative A) and four action alternatives (Alternatives B, C, D, and E). Alternative A, the No Action Alternative, provides that recreational target shooting on the SDNM will continue to be managed in accordance with land use planning guidance of the Lower Gila South Resource Management Plan of 1988, which did not include any management restrictions on recreational target shooting. Thus, the entire SDNM would be available for recreational target shooting. Under Alternative B, an area temporarily restricted from recreational target shooting, by order of the U.S. District Court, District of Arizona (approximately 10,599 acres or 2.1 percent of the SDNM) would be permanently unavailable to recreational target shooting. The Final EIS identifies Alternative C as the BLM Proposed RMP Amendment. Alternative C would make recreational target shooting available in the Desert Back Country Recreational Management Zone only, resulting in approximately 53,300 acres, or 11 percent of the SDNM, unavailable for this activity. Alternative C would protect the monument's resources, objects, and values as well as the public health. Under Alternative D, recreational target shooting would be available only outside of designated wilderness areas, land managed for wilderness characteristics, and the Juan Bautista de Anza National Historic Trail Recreation Management Zone, resulting in approximately 320,317 acres, or 66 percent of the SDNM, unavailable for this activity. Under Alternative E, the entire SDNM would be unavailable for recreational target shooting. Additionally, Alternative C is consistent with Department of the Interior Secretarial Order (SO) 3356 titled, “Hunting, Fishing, Recreational Shooting, and Wildlife Conservation Opportunities and Coordination with States, Tribes, and Territories.” Within SO 3356, several sections speak to expanding or providing opportunities for “recreational shooting.” For example, Sec 4b.(1) speaks to amending “National Monument Management Plans to include or expand hunting, recreational shooting, and fishing opportunities to the extent practicable under the law.” Whereas, Sec 4b.(6) requires Departmental Bureaus to “incorporate analysis of the impacts of Federal land and water management actions on hunting, fishing, and recreational shooting access in planning and decisionmaking.” Although unstated in SO 3356, inherent therein is that public safety is paramount under actions taken to fulfill the Order. Further, responsible use of our public lands is necessary by all users for the continued enjoyment of these lands by the American people.

The BLM will issue a Record of Decision for this planning effort after the 30-day protest period, the 60-day Governor's Consistency Review, and after any protest resolution.

Instructions for filing a protest with the BLM Director regarding the Proposed RMP/Final EIS may be found in the “Dear Reader” Letter of the proposed RMP Amendment/Final EIS for Recreational Target Shooting in the SDNM and at 43 CFR 1610.5-2. All protests must be in writing and mailed to the appropriate address, see the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Edward J. Kender,
Field Manager, Lower Sonoran Field Office.

[FR Doc. 2017-22598 Filed 10-19-17; 8:45 am]

BILLING CODE 4310-32-P